DEPARTMENT OF THE TREASURY

Submission for OMB Review; Comment Request

April 14, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 19, 2003 to be assured of consideration.

Internal Revenue Service (IRS)

OMB Number: 1545-0274.

Form Number: IRS Form 2163(c).

Type of Review: Extension.

Title: Employment—Reference Inquiry.

Description: Form 2163(c) is used by IRS to verify past employment and to question listed and developed references as to the character and integrity of current and potential IRS employees. The information received is incorporated into a report on which a security determination is based.

Respondents: Business or other for-profit, Individual or households, Not-for-profit institutions, Farms, Federal Government, State, Local or Tribal Government.

Estimated Number of Respondents: 20,000.

Estimated Burden Hours Per Respondent: 12 minutes.

Frequency of Response: On occasion.

Estimated Total Reporting/Recordkeeping Burden: 4,000 hours.

OMB Number: 1545-1520.

Revenue Procedure Numbers: 2003-4, 2003-5, 2003-6 and 2003-8.

Type of Review: Extension.

Title: Revenue Procedure 2003-4: Letter Rulings. Revenue Procedure 2003-5: Technical Advice.

Revenue Procedure 2003-6: Determination Letters.

Revenue Procedure 2003-8: User Fees.

Description: The information requested in Revenue Procedure 2003-4, Revenue Procedure 2003-5, Revenue Procedure 2003-6 and Revenue Procedure 2003-8 is required to enable the Office of the Division Commissioner (Tax Exempt and Government Entities) of the Internal Revenue Service to give advice on filing letter ruling, determination letter, and technical advice requests, to process such requests, and to determine the amount of any user fees.

Respondents: Business or other for-profit, Individuals or households, Not-for-profit institutions, Farms, State, Local or Tribal Government.

Estimated Number of Respondents: 83,068.

Estimated Burden Hours Per Respondent: 2 hours, 8 minutes.

Frequency of Response: On occasion.

Estimated Total Reporting/Recordkeeping Burden: 177,986 hours.

OMB Number: 1545-1535.

Revenue Procedure Number: Revenue Procedure 97-19.

Type of Review: Extension.

Title: Timely Mailing Treated as Timely Filing.

Description: Revenue Procedure 97-19 provides the criteria that will be used by the IRS to determine whether a private delivery service qualifies as a designated Private Delivery Service under section 7502 of the Internal Revenue Code.

Respondents: Business or other for-profit.

Estimated Number of Respondents: 5.

Estimated Burden Hours Per Respondent: 613 hours, 48 minutes.

Frequency of Response: On occasion.

Estimated Total Reporting Burden: 3,069 hours.

OMB Number: 1545-1605.

Revenue Ruling Number: Revenue Ruling 2000-8.

Type of Review: Extension.

Title: Negative Elections in Section 401(k) Plans.

Description: Revenue Ruling 2000-8 describes certain criteria that must be met before an employee's compensation can be reduced and contributed to an employer's section 401(k) plan in the absence of an affirmative election by the employee.

Respondents: Business or other for-profit, Not-for-profit institutions.

Estimated Number of Respondents: 1,500.

Estimated Burden Hours Per Respondent: 1 hour, 10 minutes.

Frequency of Response: On occasion, Annually.

Estimated Total Reporting Burden: 1,750 hours.

OMB Number: 1545-1674.

Revenue Procedure Number: Revenue Procedure 2000-20.

Type of Review: Extension.

Title: Master and Prototype Plans.

Description: The master and prototype procedure sets forth the procedures for sponsors of master and prototype pension, profit-sharing and annuity plans to request an opinion letter from the Internal Revenue Service that the form of a master or prototype plan meets the requirements of section 401(a) of the Internal Revenue Code. The information requested in sections 5.14, 9.11, 12.02, 12.03, 15.02, 17.02, 18.06, 19.02 and 19.09 of the master and prototype revenue procedure is in addition to the information required with Forms 4461 (Application for Approval of Master of Prototype Defined Contribution Plan), 4461-A (Application for Approval of Master or Prototype Defined Benefit Plan), 4461-B (Application for approval of Master or Prototype or Plan (Master Submitter Adopting Sponsor)). This information is needed in order to enable the Employee Plans function of the Service's Tax Exempt and Government Entities Division to issue an opinion letter.

Respondents: Business or other for-profit, Individuals or households, Not-for-profit institutions, Farms, State, Local or Tribal Government.

Estimated Number of Respondents: 266,530.

Estimated Burden Hours Per Respondent: 1 hour, 32 minutes.

Frequency of Response: On occasion.

Estimated Total Reporting Burden: 408,563 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Departmental Reports Management Officer.

[FR Doc. 03-9615 Filed 4-17-03; 8:45 am]

BILLING CODE 4830-01-P